DEPARTMENT OF ENERGY

Federal Energy Regulatory Commission

18 CFR Part 38

[Docket No. RM05-5-013]

Standards for Business Practices and Communication Protocols for Public Utilities

April 3, 2009.

AGENCY: Federal Energy Regulatory Commission.

ACTION: Notice of proposed rulemaking: extension of time for comments.

SUMMARY: On March 19, 2009, the Federal Energy Regulatory Commission (Commission) issued a Notice of Proposed Rulemaking (NOPR) proposing to incorporate by reference in its regulations at 18 CFR 38.2 the latest version (Version 002.1) of certain business practice standards adopted by the Wholesale Electric Quadrant of the North American Energy Standards Board (NAESB). The date for filing comments on the Commission's NOPR is being extended at the request of the Electric Power Supply Association and the Edison Electric Institute.

DATES: Comments on the proposed rule are due May 26, 2009.

ADDRESSES: You may submit comments identified by Docket No. RM05-5-013, by one of the following methods:

• Agency Web Site: http://ferc.gov. Follow the instructions for submitting comments via the eFiling link found in the Comment Procedures Section of the preamble of the Commission's March 19, 2009 NOPR.

• Mail: Commenters unable to file comments electronically must mail or hand deliver an original and 14 copies of their comments to the Federal Energy Regulatory Commission, Secretary of the Commission, 888 First Street, NE., Washington, DC 20426. Please refer to the Comment Procedures Section of the preamble for additional information on how to file paper comments.

FOR FURTHER INFORMATION CONTACT: Ryan M. Irwin (technical issues), Office of Energy Market Regulation, Federal Energy Regulatory Commission, 888 First Street, NE., Washington, DC 20426, (202) 502-6454.

Valerie Roth (technical issues), Office of Energy Market Regulation, Federal Energy Regulatory Commission, 888 First Street, NE., Washington, DC 20426, (202) 502-8538.

Gary D. Cohen (legal issues), Office of the General Counsel, Federal Energy Regulatory Commission, 888 First Street, NE., Washington, DC 20426, (202) 502-8321.

SUPPLEMENTARY INFORMATION:

Notice of Extension of Time

On April 1, 2009, the Electric Power Supply Association (EPSA) and the Edison Electric Institute (EEI) filed a joint motion in the above-proceeding, for an extension of time to file comments on the Commission's March 19, 2009 Notice of Proposed Rulemaking, 74 FR 12739, Mar. 25, 2009 which proposed to incorporate by reference standards developed by the North American Energy Standards Board.¹ In their motion, EPSA and EEI request that the date for filing comments on the NAESB NOPR be extended to the date when comments are due to be filed on the Commission's March 19, 2009 NOPR addressing reliability standards submitted to the Commission for approval by the North American Electric Reliability Company (NERC).² EPSA and EEI state that because of the importance of the market issues addressed in the NAESB NOPR and the NERC NOPR and because these issues impact each other, additional time is needed to adequately address both NOPRs and to submit responsive comments.

¹ Standards for Business Practices and Communication Protocols for Public Utilities, 126 FERC ¶ 61,248 (2009) (NAESB NOPR).

² Mandatory Reliability Standards for the Calculation of Available Transfer Capability, Capacity Benefit Margins, Transmission Reliability Margins, Total Transfer Capability, and Existing Transmission Commitments and Mandatory Reliability Standards for the Bulk Power System, 126 FERC ¶ 61,249 (2009) (NERC NOPR).

Upon consideration, notice is hereby given that an extension of time for interested parties for filing comments on the NAESB NOPR is granted to and including May 26, 2009.

Kimberly D. Bose,
Secretary.

[FR Doc. E9-8054 Filed 4-8-09; 8:45 am]

BILLING CODE 6717-01-P